DEPARTMENT OF JUSTICE

Office of Justice Programs

Office of Juvenile Justice and Delinquency Prevention

[OMB Number 1121-NEW]

Agency Information Collection Activities; Proposed Collection; Comments Requested: Juvenile Justice Reform and Reinvestment Initiative Stakeholder Survey Under OMB's Partnership Fund

ACTION: 30-Day notice.

The Department of Justice (DOJ), Office of Justice Programs, Office of Juvenile Justice and Delinquency Prevention, will be submitting the following information collection request to the Office of Management and Budget (OMB) for review and approval in accordance with the Paperwork Reduction Act of 1995. The proposed information collection is published to obtain comments from the public and affected agencies.

Comments are encouraged and will be accepted for “thirty days” until December 5, 2013. This process is conducted in accordance with 5 CFR 1320.10.

If you have comments especially on the estimated public burden or associated response time, suggestions, or need a copy of the proposed information collection instrument with instructions or additional information, please contact Kristen Kracke, (202) 616-3649, Office of Juvenile Justice and Delinquency Prevention, Office of Justice Programs, U.S. Department of Justice, 810 Seventh Street NW., Washington, DC 20531.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection Back to Top

(1) Type of information collection: Original Web-based Survey

(2) The title of the form/collection: Juvenile Justice Reform and Reinvestment Initiative

(3) The agency form number, if any, and the applicable component of the Department sponsoring the collection: The Office of Juvenile Justice and Delinquency Prevention, United States Department of Justice.

(4) Affected public who will be asked or required to respond, as well as a brief abstract: Milwaukee County, Wisconsin; Iowa; and Delaware Juvenile Justice Service Providers. Local government and Not-for-profit institutions, Business or other for-profit in each of these three jurisdictions will be affected.

Abstract: This survey is being conducted as a part of an evaluation of OJJDPs JJRRI Demonstration Program. In 2012, OJJDP commissioned a 36-month evaluation of the Juvenile Justice Reform and Reinvestment Initiative (JJRRI) Demonstration Program. The JJRRI Demonstration Program provides funds to three states and/or local administering agencies for juvenile justice to develop and implement an integrated set of evidence-based and cost-measurement tools that will enable them to make informed decisions about resources and services for juvenile-justice involved youth.

The Urban Institute (UI) is conducting a comprehensive evaluation of JJRRI to determine whether the initiative has had the intended effect of improving program- and cost-effectiveness. As part of this evaluation, UI will conduct two web-based surveys with key stakeholders at each site to measure changes in attitudes towards evidence-based practices as a result of the JJRRI Demonstration Program.

The main objective of this web-based survey is to measure juvenile justice stakeholder—agency leadership and staff—support for use and knowledge of Evidence-Based Practice's in the three sites selected to be JJRRI Demonstration Programs. Two surveys will be conducted by UI to measure stakeholder support and knowledge of evidence-based practices. The first survey will assess baseline attitudes of EBPs. The second survey will measure the extent to which context and attitudes change through the initiative.

(5) An estimate of the total number of respondents and the amount of time estimated for an average respondent to respond/reply: It is estimated that 480 respondents will complete a 20 minute questionnaire.

(6) An estimate of the total public burden (in hours) associated with the collection: Approximately 160 hours.

If additional information is required, contact: Jerri Murray, Department Clearance Officer, United States Department of Justice, Justice Management Division, Policy and Planning Staff, Two Constitution Square, 145 N Street NE., Suite 3W-1407, Washington, DC 20530.

Dated: October 31, 2013.
Jerri Murray,
Department Clearance Officer for PRA, U.S. Department of Justice.

[FR Doc. 2013-26462 Filed 11-4-13; 8:45 am]

BILLING CODE 4410-18-P